DEPARTMENT OF TRANSPORTATION

Surface Transportation Board

[Docket No. FD 35361]

Elgin, Joliet and Eastern Railway Company—Trackage Rights Exemption—Illinois Central Railroad Company

Pursuant to a written amended trackage rights agreement dated March 22, 2010, Illinois Central Railroad Company (IC) has agreed to amend its existing overhead trackage rights agreement with Elgin, Joliet and Eastern Railway Company (EJ&E) over 42.3 miles of rail line owned by IC between milepost 17.9 at Highlawn, Ill., and milepost 31.4 at University Park, Ill., and between milepost 36.7 in Joliet, Ill., and milepost 7.9 in Lemoyne, Ill.¹

¹ EJ&E and IC are indirect subsidiaries of Canadian National Railway Company. EJ&E states that the Amended Agreement modifies the original trackage rights previously granted to EJ&E when it was known as EJ&E West Company.

EJ&E proposes a consummation date of May 6, 2010, but the earliest the transaction may be consummated is May 7, 2010, the effective date of the exemption (30 days after the exemption is filed).

Under the agreement, the amended trackage rights will allow EJ&E to interchange traffic with IC: (1) At IC's Markham Yard, an intermediate point between Highlawn and University Park (between milepost 20.5 and milepost 23.5); and (2)(a) at IC's Glenn Yard (between milepost 9.5 and milepost 11.3), and (b) at Statesville, at or near milepost 35.6, intermediate points between Joliet and Lemoyne.

As a condition to this exemption, any employees affected by the acquisition of the trackage rights will be protected by the conditions imposed in Norfolk and Western Railway Co.—Trackage Rights—Burlington Northern, Inc., 354 I.C.C. 605 (1978), as modified in Mendocino Coast Railway, Inc.—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by April 30, 2010 (at least 7 days before the exemption becomes effective).

An original and 10 copies of all pleadings, referring to Docket No. FD 35361, must be filed with the Surface Transportation Board, 395 E Street, SW., Washington, DC 20423-0001. In addition, a copy of each pleading must be served on Jeremy M. Berman, Fletcher & Sippel LLC, 29 N. Wacker Drive, Suite 920, Chicago, IL 60606-2832.

Board decisions and notices are available on our Web site at “ http://www.stb.dot.gov.”

Decided: April 19, 2010.
By the Board, Rachel D. Campbell, Director, Office of Proceedings.
Jeffrey Herzig,
Clearance Clerk.

[FR Doc. 2010-9441 Filed 4-22-10; 8:45 am]

BILLING CODE 4915-01-P